FEDERAL COMMUNICATIONS COMMISSION

Notice of Public Information Collection(s) Being Submitted to OMB for Review and Approval

September 16, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 7, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0888.

Title: Part 76, Cable Television Service Pleading and Complaint Rules.

Form Number: N/A.

Type of Review: Extension of a currently approved collection.

Respondents: Business or other for-profit; and Individuals or households.

Number of Respondents: 400.

Estimated Time Per Response: 4 to 40 hours.

Frequency of Response: On occasion requirements; Third party disclosure .

Total Annual Burden: 8,800 hours.

Total Respondent Cost: $1,600,000.

Needs and Uses: The FCC released a Report and Order (R&O) on January 8, 1999, CS Docket No. 98-54, FCC 98-348. Among other things, the R&O consolidated the general procedural requirements for part 76 in §§ 76.6 through 76.10; eliminated redundant requirements; expanded the types of submissions styled “Petitions for Special Relief” and standardized filing procedures for all petitions seeking a finding of “effective competition;” established a standard provision for part 76 pleadings to provide uniform filing format, deadlines, etc; required all submissions made pursuant to part 76 to be verified by the submitting party or the party's attorney—including written verification that the signatory had read the submission and that the submission is well grounded in fact and warranted by existing law or good faith argument for extension, modification, or reversal of existing law.

OMB Control Number: 3060-1004.

Title: Revision of the Commission's Rules to Ensure Compatibility with Enhanced 911 Emergency Calling Systems: Phase II Compliance Deadlines for Non-Nationwide CMRS Carriers.

Form Number: N/A.

Type of Review: Revision to an Existing Collection.

Respondents: Business or other for-profit; Not-for-profit institutions; and State, Local or Tribal Government.

Number of Respondents: 251.

Estimated Time Per Response: 4 to 5 hours.

Frequency of Response: Recordkeeping; Quarterly, Semi-Annual, and One-Time reporting requirements disclosure requirement.

Total Annual Burden: 1,282 hours.

Total Respondent Cost: None.

Needs and Uses: On July 26, 2002, the FCC released an Order to Stay in CC Docket No. 94-102, FCC 02-210 to stay temporarily the application for the wireless Enhanced 911 Phase II interim handset and network upgrade compliance deadlines under 47 CFR 20.18(f) and (g) for non-nationwide carriers that filed waiver requests relating to those deadlines—Tier II Commercial Mobile Radio Service (CMRS) carriers must begin to comply on March 1, 2002 and Tier III CMRS carriers on September 1, 2003. Previously, the FCC had provided similar, but less extensive relief from these rules to the nationwide carriers that had requested it. The FCC also established reporting requirements of December 31, 2002 to monitor the progress and insure the E 911 compliance for these effected nationwide carriers. The Stay now places identical quarterly reporting requirements on Tier II carriers and a one-time reporting requirement on Tier III carriers.

Federal Communications Commission.
Marlene H. Dortch,
Secretary.

[FR Doc. 02-25480 Filed 10-7-02; 8:45 am]

BILLING CODE 6712-01-P